DEPARTMENT OF LABOR

Occupational Safety and Health Administration

Maritime Advisory Committee for Occupational Safety and Health; Notice of Meeting

AGENCY: Occupational Safety and Health Administration (OSHA), Labor.

ACTION: Maritime Advisory Committee for Occupational Safety and Health: Notice of meeting.

SUMMARY: The Maritime Advisory Committee for Occupational Safety and Health (MACOSH), established to advise the Secretary of Labor on issues relating to occupational safety and health programs, policies, and standards in the maritime industries in the United States will meet December 6 and 7, 2000 in Baltimore, Maryland.

DATES: MACOSH will meet:

On December 6, 2000, from 8:30 a.m. until approximately 5:00 p.m.; and

On December 7, 2000, from 8:30 a.m. until approximately 4:00 p.m.

ADDRESSES: The Committee will meet at the Hyatt Regency Baltimore on the Inner Harbor, 300 Light Street, Baltimore, MD 21202; telephone: (410) 528-1234. Mail comments, views, or statements in response to this notice to Chappell Pierce, Acting Director, Office of Maritime Standards, OSHA, U.S. Department of Labor, Room N-3609, 200 Constitution Avenue, NW., Washington, DC 20210. Telephone: (202) 693-2086; FAX: (202) 693-1663.

FOR FURTHER INFORMATION CONTACT: Chappell Pierce, Acting Director, Office of Maritime Standards, OSHA; Telephone (202) 693-2086.

SUPPLEMENTARY INFORMATION: All interested persons are invited to attend the meeting. Individuals with disabilities wishing to attend should contact Theda Kenney at (202) 693-2222 no later than December 1, 2000, to obtain appropriate accommodations.

Background

MACOSH was established pursuant to the authority in section 7 of the Occupational Safety and Health Act of 1970 to advise the Assistant Secretary of Labor for Occupational Safety and Health on issues relating to occupational safety and health for workers involved in shipbuilding, shipbreaking, ship repair, and longshoring in the maritime industries. Since its establishment in 1995, the Committee, has provided invaluable assistance and advice to the Assistant Secretary on maritime matters. MACOSH is chartered for two-year periods. The first meeting of the recently recharted committee was held on July 19 and 20, 2000, at Kings Point, New York.

Meeting Agenda

This meeting will include discussion of the following subjects: MACHOSH goals and objectives for the next two years, vertical tandem lifts in the longshoring industry, the maritime ergonomics project, an update on the NIOSH diesel exhaust epidemiology study, joint efforts with the OSHA Advisory Committee on Construction Safety and Health, an update on OSHA projects and priorities, and MACOSH workgroup reports.

Public Participation

Written data, views, or comments for consideration by MACOSH on the various agenda items listed above may be submitted, preferably with four copies, to Chappell Pierce. Submissions received by November 20, 2000, will be provided to the members of the Committee prior to the meeting. Requests to make an oral presentation to the Committee may be granted if time permits. Persons wishing to make an oral presentation to the Committee on any of the agenda items noted above should notify Chappell Pierce by November 28, 2000. The request should state the amount of time desired, the capacity in which the person will appear, and a brief outline of the content of the presentation.

Authority: This notice is issued under the authority of section 6(b)(1) and 7(b) of the Occupational Safety and Health act of 1970 (29 U.S.C. 655, 656), the Federal Advisory Committee Act (5 U.S.C. App. 2) and 29 CFR 1912.

Signed at Washington, D.C. this 8th day of November 2000.
Charles N. Jeffress,
Assistant Secretary of Labor.

[FR Doc. 00-29262 Filed 11-14-00; 8:45 am]

BILLING CODE 4510-26-M